ENVIRONMENTAL PROTECTION AGENCY

[EPA-HQ-OPP-2020-0090; FRL-10008-47]

Carbaryl and Methomyl Registration Review; Draft Endangered Species Act Biological Evaluations; Extension of Comment Period

AGENCY: Environmental Protection Agency (EPA).

ACTION: Notice; extension of comment period.

SUMMARY: EPA issued a notice in the Federal Register of March 17, 2020, opening a 60-day comment period on the draft nationwide biological evaluations (BEs) for the registration review of the pesticides carbaryl and methomyl relative to the potential effects on threatened and endangered species and their designated critical habitats. This document extends the comment period for 45 days, from May 18, 2020 to July 2, 2020.

DATES: Comments, identified by docket identification (ID) number EPA-HQ-OPP-2020-0090, must be received on or before July 2, 2020.

ADDRESSES: Follow the detailed instructions provided under ADDRESSES in the Federal Register document of March 17, 2020 (85 FR 15168) (FRL-10006-38).

FOR FURTHER INFORMATION CONTACT: Tracy Perry, Pesticide Re-Evaluation Division (7508P), Office of Pesticide Programs, Environmental Protection Agency, 1200 Pennsylvania Ave. NW, Washington, DC 20460-0001; telephone number: (703) 308-0128; email address: perry.tracy@epa.gov.

SUPPLEMENTARY INFORMATION: This document extends the public comment period established in the Federal Register document of March 17, 2020 (85 FR 15168) (FRL-10006-38), which opened a 60-day public comment period for the draft nationwide biological evaluations (BEs) for the registration review of the pesticides carbaryl and methomyl relative to the potential effects on threatened and endangered species and their designated critical habitats. As noted in that document, the schedule for conducting the carbaryl and methomyl BEs was negotiated as part of a partial settlement agreement pursuant to a joint stipulation filed on October 18, 2019 and entered by the court on October 22, 2019, in Center for Biological Diversity et al. v. EPA et al. (N.D. Ca) (3:11-cv-00293). EPA is hereby extending the public comment period, which was set to end on May 18, 2020 to July 2, 2020.

After considering a number of requests to extend the comment period received from various stakeholders, EPA is extending the comment period for the following reasons: (1) The draft BEs are complex and highly technical; (2) the need for some stakeholders to engage experts familiar with the subject matter to assist them with providing comments; (3) the large number of stakeholders potentially impacted by the draft BEs; (4) the importance of soliciting feedback from stakeholders who may be affected; (5) the stakeholders' need for additional time to review and develop constructive comments for these complex and lengthy Bes; and (6) the carbaryl and methomyl BEs are the first ones where EPA applied the Revised Method, which was updated to reflect input from public comments and released in March along with the draft carbaryl and methomyl BEs.

To submit comments, or access the docket, please follow the detailed instructions provided under ADDRESSES in the Federal Register document of March 17, 2020. If you have questions, consult the person listed under FOR FURTHER INFORMATION CONTACT.

Authority: 15 U.S.C. 2601 et seq.

Dated: April 22, 2020.
Alexandra Dapolito Dunn,
Assistant Administrator, Office of Chemical Safety and Pollution Prevention.

[FR Doc. 2020-08877 Filed 4-24-20; 8:45 am]

BILLING CODE 6560-50-P